SMALL BUSINESS ADMINISTRATION

[Disaster Declaration #15406; MONTANA Disaster Number MT-00115 Declaration of Economic Injury]

Administrative Declaration of an Economic Injury Disaster for the State of MONTANA

AGENCY: U.S. Small Business Administration.

ACTION: Notice.

SUMMARY: This is a notice of an Economic Injury Disaster Loan (EIDL) declaration for the State of Montana, dated 12/11/2017.

Incident: Rice Ridge Fire.

Incident Period: 07/24/2017 through 10/20/2017.

DATES: Issued on 12/11/2017.

Economic Injury (EIDL) Loan Application Deadline Date: 09/11/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations. The following areas have been determined to be adversely affected by the disaster:

Primary Counties: Missoula

Contiguous Counties:

Montana: Flathead, Granite, Lake, Mineral, Powell, Ravalli, Sanders

Idaho: Clearwater, Idaho

The Interest Rates are:

Businesses and Small Agricultural Cooperatives without Credit Available Elsewhere.

Non-Profit Organizations without Credit Available Elsewhere.

The number assigned to this disaster for economic injury is 154060.

The States which received an EIDL Declaration # are Montana, Idaho.

(Catalog of Federal Domestic Assistance Number 59008)

Dated: December 11, 2017.
Linda E. McMahon,
Administrator.

[FR Doc. 2017-27365 Filed 12-19-17; 8:45 am]

BILLING CODE 8025-01-P